SMALL BUSINESS ADMINISTRATION

Eagle Fund III, L.P., License No. 07/07-0116; Notice Seeking Exemption Under Section 312 of the Small Business Investment Act, Conflicts of Interest

Notice is hereby given that Eagle Fund III, L.P., 101 S. Hanley Road, Suite 1250, St. Louis, MO 63105, a Federal Licensee under the Small Business Investment Act of 1958, as amended (“the Act”), in connection with the financing of a small concern, has sought an exemption under § 312 of the Act and § 107.730, Financings which constitute conflicts of interest, of the Small Business Administration Rules and Regulations (13 CFR part 107). Eagle Fund III, L.P., proposes to provide debt financing to JRI Holdings, Inc., 1339 N. Cedarbrook, Springfield, MO 65802. The financing is contemplated to provide growth capital for the company.

The financing is brought within the purview of § 107.730(a) of the Regulations because Eagle Fund I, L.P., an Associate of Eagle Fund III, L.P., has a 10% equity interest in JRI Holdings, Inc., thereby making JRI Holdings, Inc., an Associate of Eagle Fund III, L.P., as defined in § 107.50 of the Regulations.

Notice is hereby given that any interested person may submit written comments on the transaction to the Associate Administrator for Investment, U.S. Small Business Administration, 409 Third Street SW., Washington, DC 20416.

Sean J. Greene,
Associate Administrator for Investment and Innovation.

[FR Doc. 2012-30142 Filed 12-13-12; 8:45 am]

BILLING CODE P